DEPARTMENT OF HOMELAND SECURITY

Coast Guard

33 CFR Part 165

[CGD08-03-029]

RIN 1625-AA11

Regulated Navigation Area; Reporting Requirements for Barges Loaded With Certain Dangerous Cargoes, Inland Rivers, Eighth Coast Guard District; Correction

AGENCY: Coast Guard, DHS.

ACTION: Interim final rule; correction.

SUMMARY: On October 3, 2003, the Coast Guard published an interim final rule with a request for comments in the Federal Register that established a regulated navigation area (RNA) within all inland rivers of the Eighth Coast Guard District. This document contains corrections to that rule.

DATES: Effective November 1, 2003.

FOR FURTHER INFORMATION CONTACT: For information regarding this document, or if you have questions on viewing or submitting material to the docket, write or call Commander (CDR) Jerry Torok or Lieutenant (LT) Kevin Lynn, Project Managers for the Eighth Coast Guard District Commander, Hale Boggs Federal Bldg., 501 Magazine Street, New Orleans, LA 70130, telephone (504) 589-6271.

SUPPLEMENTARY INFORMATION: On October 3, 2003, the Coast Guard published an interim final rule entitled “Regulated Navigation Area; Reporting Requirements for Barges Loaded With Certain Dangerous Cargoes, Inland Rivers, Eighth Coast Guard District” in the Federal Register (68 FR 57358). As originally drafted, the information in paragraph (e) of § 165.830 was set out as a table. On publication in the Federal Register, the table was converted to a textual format. References elsewhere in the published document to that table must now be corrected to reference paragraph (e), rather than the table.

In the temporary interim rule FR Doc. 03-25165 published on October 3, 2003 (68 FR 57358), make the following corrections:

On page 57361, in the second column, on line 4, correct “table” to read “§ ”.

§ 165.830 [Corrected]

On page 57364, in the second column, in paragraph (d)(1)(v), remove “in table 165.830(e)”.

Dated: October 31, 2003.
R.F. Duncan,
Rear Admiral, U.S. Coast Guard, Commander, Eighth Coast Guard District.

[FR Doc. 03-28328 Filed 11-10-03; 8:45 am]

BILLING CODE 4910-15-P